DEPARTMENT OF COMMERCE

National Oceanic and Atmospheric Administration

[I.D. 062606A]

Endangered Species; File Nos. 1079-1828, 1053-1825, 1095-1837

AGENCY: National Marine Fisheries Service (NMFS), National Oceanic and Atmospheric Administration (NOAA), Commerce.

ACTION: Notice; receipt of applications for permits.

SUMMARY: Notice is hereby given that the following three individuals have applied in due form for permits for scientific research on marine mammals: Peter M. Scheifele, MD(r), Ph.D, University of Connecticut, Department of Animal Science, Bioacoustics and Neuroaudiology, 3636 Horsebarn Hill Road Ext., Unit 4040, Storrs, CT 06269 (File No. 1079-1828); David Mann, Ph.D., College of Marine Science, The University of South Florida, College of Marine Science, 140 Seventh Avenue South, St. Petersburg, FL 33701 (File No. 1053-1825); and Dorian S. Houser, Ph.D., Biomimetica, 7951 Shantung Drive, Santee, CA 92071 (File No. 1095-1837).

DATES: Written, telefaxed, or e-mail comments on these applications must be received on or before August 4, 2006.

ADDRESSES: The applications and related documents are available for review upon written request or by appointment (See SUPPLEMENTARY INFORMATION).

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on a particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the appropriate document identifier: File No. 1079-1828, 1053-1825, or 1095-1837.

FOR FURTHER INFORMATION CONTACT: Andrew Wright or Amy Sloan, (301)713-2289

SUPPLEMENTARY INFORMATION: The subject permits are requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-227).

All three applicants are all seeking permits to conduct hearing measurements on either permanently captive marine mammals, or those that are stranded, entrapped, or in a rehabilitation center. Marine mammals use sound for communication in a number of behaviors critical to survival and reproduction. Results of this work would increase our knowledge of the abilities of marine mammals to perceive natural sounds and variations in those sounds, and improve our understanding of how anthropogenic sounds affect them in order to facilitate their conservation. These types of recordings are routinely used to measure the hearing of other animals, including human infants, and do not represent a risk to the marine mammals.

File No. 1079-1828: Dr. Scheifele seeks a 5-year permit to use auditory evoked potential recordings with non-invasive suction cup sensors on up to 15 individuals of certain species of cetaceans in the U.S. (see application for specific cetacean species and stocks requested) and subdermal needle electrodes on up to 15 each of harbor seals (Phoca vitulina), gray seals (Halichoerus grypus), and harp seals (Phoca groenladica). The research would be conducted on stranded and public display animals held at Mystic Aquarium and Institute for Exploration, Mystic, CT.

File No. 1053-1825: Dr. Mann seeks a 5-year permit to use auditory evoked potential recordings with non-invasive suction cup sensors on up to 15 individuals of any species of cetaceans in the U.S. The research would be conducted on stranded animals in the field or at a rehabilitation center.

File No. 1095-1837: Dr. Houser seeks a 5-year permit to use auditory evoked potential recordings with non-invasive suction cup sensors on up to 15 individuals of any species of cetaceans in the U.S. The research would be conducted on stranded or accidentally entrapped animals in the field or at a rehabilitation center.

Concurrent with the publication of this notice in the Federal Register, NMFS is forwarding copies of these applications to the Marine Mammal Commission and its Committee of Scientific Advisors.

Documentation

The applications and related documents are available for review upon written request or by appointment in the following office(s):

All documents: Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394;

File Nos. 1053-1825 and 1095-1837: Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Pacific Islands Region, NMFS, 1601 Kapiolani Blvd., Rm 1110, Honolulu, HI 96814-4700; phone (808)973-2935; fax (808)973-2941; and

Southeast Region, NMFS, 263 13th Ave South, St. Petersburg, FL 33701; phone (727)824-5312; fax (727)824-5309.

Dated: June 29, 2006.
Tammy C. Adams,
Acting Chief, Permits, Conservation and Education Division, Office of Protected Resources, National Marine Fisheries Service.

[FR Doc. E6-10463 Filed 7-3-06; 8:45 am]

BILLING CODE 3510-22-S